SMALL BUSINESS ADMINISTRATION

Revocation of License of Small Business Investment Company

Pursuant to the authority granted to the United States Small Business Administration by the Final Order of the United States District Court for the Western District of Louisiana, Lafayette-Opelousas Division, dated June 24, 2003, the United States Small Business Administration hereby revokes the license of SCDF Investment Corporation, a Louisiana corporation, to function as a small business investment company under the Small Business Investment Company License No 06/10-5157 issued to SCDF Investment Corporation on April 26, 1973 and said license is hereby declared null and void as of September 22, 2003.

Dated: February 21, 2006.
Jaime Guzman-Fournier,
Associate Administrator for Investment.

[FR Doc. 06-2266 Filed 3-9-06; 8:45am]

BILLING CODE 8025-01-M